DEPARTMENT OF ENERGY

Federal Energy Regulatory Commission

Combined Notice of Filings #1

Take notice that the Commission received the following electric corporate filings:

Docket Numbers: EC12-93-000.

Applicants: AES Eastern Energy, LP, AES Somerset, LLC, AES CAYUGA LLC, Somerset Cayuga Holding Company, Inc.

Description: Section 203 Joint Application of AES Eastern Energy, L.P., AES Somerset, LLC, AES Cayuga, LLC and Somerset Cayuga Holding Company, Inc.

Filed Date: 4/13/12.

Accession Number: 20120413-5308.

Comments Due: 5 p.m. ET 5/4/12.

Take notice that the Commission received the following electric rate filings:

Docket Numbers: ER10-1338-001.

Applicants: Southern Indiana Gas and Electric Company.

Description: Triennial Market-Based Rate Update Supplemental Filing of Southern Indiana Gas and Electric Company, Inc.

Filed Date: 4/16/12.

Accession Number: 20120416-5296.

Comments Due: 5 p.m. ET 5/7/12.

Docket Numbers: ER12-1174-001.

Applicants: Cross Border Energy LLC.

Description: Baseline Market-Based Rate Tariff to be effective 11/21/2009.

Filed Date: 4/17/12.

Accession Number: 20120417-5075.

Comments Due: 5 p.m. ET 5/8/12.

Docket Numbers: ER12-1527-000.

Applicants: ETC Endure Energy LLC.

Description: ETC Endure Energy LLC submits tariff filing per 35.13(a)(2)(iii: Normal Filing to be effective 2/29/2012.

Filed Date: 4/17/12.

Accession Number: 20120417-5096.

Comments Due: 5 p.m. ET 5/8/12.

Docket Numbers: ER12-1552-000.

Applicants: Southwest Power Pool, Inc.

Description: Revisions to Attachments H and T to Implement Balanced Portfolio Transfers to be effective 6/1/2012.

Filed Date: 4/16/12.

Accession Number: 20120416-5180.

Comments Due: 5 p.m. ET 5/7/12.

Docket Numbers: ER12-1553-000.

Applicants: Southern California Edison Company.

Description: Southern California Edison Company submits tariff filing per 35.13(a)(2)(iii: SGIA and Service Agreement SCE-TDBU with SCE-PPD, PPD-SPVP 027 (I-210-3) Project to be effective 4/18/2012.

Filed Date: 4/17/12.

Accession Number: 20120417-5109.

Comments Due: 5 p.m. ET 5/8/12.

Take notice that the Commission received the following open access transmission tariff filings:

Docket Numbers: OA07-37-005.

Applicants: Louisville Gas & Electric Company.

Description: Report of Louisville Gas and Electric Company, et al.

Filed Date: 4/17/12.

Accession Number: 20120417-5081.

Comments Due: 5 p.m. ET 5/8/12.

Docket Numbers: OA08-111-004.

Applicants: Portland General Electric Company.

Description: Annual Informational Filing on Operational Penalty Assessments and Distributions as Required by Order Nos. 890 and 890-A of Portland General Electric Company.

Filed Date: 4/17/12.

Accession Number: 20120417-5088.

Comments Due: 5 p.m. ET 5/8/12.

Docket Numbers: OA12-4-000.

Applicants: Public Service Company of Colorado.

Description: Public Service Company of Colorado Annual Report of Penalty Assessments and Distributions in Accordance with Order Nos. 890 and 890-A.

Filed Date: 4/13/12.

Accession Number: 20120413-5311.

Comments Due: 5 p.m. ET 5/4/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 17, 2012.
Nathaniel J. Davis, Sr.,
Deputy Secretary.

[FR Doc. 2012-9781 Filed 4-23-12; 8:45 am]

BILLING CODE 6717-01-P